DEPARTMENT OF THE TREASURY

Departmental Offices; Privacy Act of 1974, as Amended; System of Records

AGENCY: Departmental Offices, Treasury.

ACTION: Notice of Proposed Privacy Act System of Records.

SUMMARY: In accordance with the requirements of the Privacy Act of 1974, as amended, 5 U.S.C. 552a, the Department of the Treasury gives notice of a proposed new system of records entitled “Treasury/DO .195—Treasury Emergency Management System.”

DATES: Comments must be received no later than March 8, 2001. The proposed system of records will be effective March 19, 2001, unless the Department receives comments that would result in a contrary determination.

ADDRESSES: Comments should be sent to Emergency Preparedness Staff, Office of Security, Department of the Treasury, Annex Building, Room 3180, 1500 Pennsylvania Avenue, NW., Washington, DC 20220.

FOR FURTHER INFORMATION CONTACT: Alesia Taylor-Boyd, Acting Director, Emergency Management Preparedness, (202) 622-1130. Fax: 202-622-2057.

SUPPLEMENTARY INFORMATION: The Department of the Treasury is giving notice of a new system of records which is subject to the Privacy Act. The proposed system of records will maintain specified contact information on current Treasury employees, contractors, and reservists who may be called to support emergency assignments on teams such as the Office Business Continuity Team, Emergency Management Center Team, or the Treasury Emergency Executive Staff.

The new system of records report, as required by 5 U.S.C. 552a(r) of the Privacy Act, has been submitted to the Committee on Government Reform and Oversight of the House of Representatives, the Committee on Governmental Affairs of the Senate, and the Office of Management and Budget, pursuant to Appendix I to OMB Circular A-130, Federal Agency Responsibilities for Maintaining Records About Individuals, dated February 8, 1996.

The proposed system of records, Treasury Emergency Management System—Treasury/DO .195 is published in its entirety below.

Date: January 25, 2001.
W. Earl Wright, Jr.,
Chief Management and Administrative Programs Officer.

Treasury/DO .195

System Name:

Treasury Emergency Management System.

System Location:

Department of the Treasury, Annex Building, Room 3180, 1500 Pennsylvania Avenue, NW., Washington, DC 20220. Other locations at which the system is maintained by Treasury components and their associated field offices are:

(1) a. Departmental Offices (DO): 1500 Pennsylvania Ave., NW, Washington, DC 20220.

b. Financial Crimes Enforcement Network (FinCEN): 2070 Chain Bridge Road, Vienna, VA 22182.

c. The Office of Inspector General (OIG): 740 15th Street, NW, Washington, DC 20220.

d. Treasury Inspector General for Tax Administration (TIGTA): 1111 Constitution Ave., NW, Washington, DC 20224.

(2) Bureau of Alcohol, Tobacco and Firearms (ATF): 650 Massachusetts Avenue, NW, Washington, DC 20226.

(3) Office of the Comptroller of the Currency (OCC): 250 E Street, SW, Washington, DC 20219-0001.

(4) United States Customs Service (CS): 1300 Pennsylvania Avenue, NW, Washington DC 20229.

(5) Bureau of Engraving and Printing (BEP): 14th & C Streets, SW, Washington, DC 20228.

(6) Federal Law Enforcement Training Center (FLETC): Glynco, Ga. 31524.

(7) Financial Management Service (FMS): 401 14th Street, SW, Washington, DC 20227.

(8) Internal Revenue Service (IRS): 1111 Constitution Avenue, NW, Washington, DC 20224.

(9) United States Mint (MINT): 801 9th Street, NW, Washington, DC 20220.

(10) Bureau of the Public Debt (BPD): 999-E Street, NW, Washington, DC 20239.

(11) United States Secret Service (USSS): 950 H Street, NW, Washington, DC 20001.

(12) Office of Thrift Supervision (OTS): 1700 G Street, NW.,Washington, DC 20552.

Categories of Individuals Covered by The System:

Current Treasury employees, contractors, and Treasury Emergency Executive Reservists.

Categories of Records in The System:

Treasury employees, contractors, or Treasury Emergency Executive Reservists identification number, social security number, first name and middle initial, last name, job title, government and home addresses (city, state, zip code, zip code extension), home telephone number, work telephone number, alternate telephone number (e.g., pager, cellular phone), work shift, email addresses, office code, office name, gender and other employee attributes, date of birth, place of birth, and related personnel security clearance information, emergency team assignment and emergency team location.

Authority For Maintenance of The System:

5 U.S.C. 301, Executive Order 12656, section 201 and part 15, Executive Order 12472, Presidential Decision Directive 67.

Purposes(s):

The purpose of this system of records is to support the development of and maintain a continuity of operations plans (COOP) for the Department and its component bureaus. COOP activities involve ensuring the continuity of minimum essential Department of the Treasury functions through plans and procedures governing succession to office and the emergency delegation of authority (where permissible). Vital records and critical information pertaining to all current employees, contractors, and Treasury Emergency Executive Reservists will be gathered and stored in an emergency employee locator system. This data will be used for alert and notification purposes, determining team and task assignments, developing and maintaining an emergency contact system for general emergency preparedness programs and specific situations.

Routine Uses of Records Maintained in The System, Including Categories of Users And The Purposes of Such Uses:

These records may be used to: (1) Disclose pertinent information to appropriate Federal, State, local, or foreign agencies, or other public authority responsible for investigating or prosecuting the violations of, or for enforcing or implementing a statute, rule, regulation, order, or license, where the disclosing agency becomes aware of an indication of a violation or potential violation of civil or criminal law or regulation;

(2) Disclose pertinent information to the Department of Justice for the purpose of litigating an action or seeking legal advice;

(3) Disclose information to the Federal Emergency Management Agency (FEMA) or other agency with national security and emergency preparedness responsibilities in order to carry out continuity of government activities;

(4) Disclose information to a Federal, State, local, or other public authority maintaining civil, criminal or other relevant enforcement information or other pertinent information, which has requested information relevant to or necessary to the requesting agency's, bureau's, or authority's hiring or retention of an individual, or issuance of a security clearance, license, contract, grant, or other benefit;

(5) Disclose information in a proceeding before a court, adjudicative body, or other administrative body before which the Department of the Treasury (agency) is authorized to appear when:

(a) The agency, or (b) any employee of the agency in his or her official capacity, or (c) any employee of the agency in his or her individual capacity where the Department of Justice or the agency has agreed to represent the employee; or (d) the United States, when the agency determines that litigation is likely to affect the agency, is a party to litigation or has an interest in such litigation, and the use of such records by the agency is deemed to be relevant and necessary to the litigation or administrative proceeding and not otherwise privileged;

(6) Disclose information to a Congressional office in response to an inquiry made at the request of the individual to whom the record pertains;

(7) Disclose information to a contractor for the purpose of processing administrative records and/or compiling, organizing, analyzing, programming, or otherwise refining records subject to the same limitations applicable to U.S. Department of the Treasury officers and employees under the Privacy Act;

(8) Disclose information to a court, magistrate, or administrative tribunal in the course of presenting evidence, including disclosures to opposing counsel or witnesses in the course of civil discovery, litigation, or settlement negotiations or in connection with criminal law proceedings or in response to a subpoena where relevant or potentially relevant to a proceeding;

(9) Disclose information to unions recognized as exclusive bargaining representatives under the Civil Service Reform Act of 1978, 5 U.S.C. 7111 and 7114, the Merit Systems Protection Board, arbitrators, the Federal Labor Relations Authority, and other parties responsible for the administration of the Federal labor management program for the purpose of processing any corrective actions or grievances, or conducting administrative hearings or appeals, or if needed in the performance of other authorized duties;

(10) Disclose information to a telecommunications company providing telecommunications support to permit servicing the account;

(11) Disclose information to representatives of the General Services Administration (GSA) or the National Archives and Records Administration (NARA) who are conducting records management inspections under authority of 44 U.S.C. 2904 and 2906.

Policies and Practices for Storing, Retrieving, Accessing, Retaining, and Disposing of Records in the System:

Storage:

Maintained in hardcopy and electronic media.

Retrievability:

Records can be retrieved by name, or by the categories listed above under “Categories of records in the system.”

Safeguards:

Protection and control of any sensitive but unclassified (SBU) records are in accordance with TD P 7110, Department of the Treasury Security Manual. The files and magnetic media are secured in locked rooms. Access to the records is available only to employees responsible for the management of the system and/or employees of program offices who have a need for such information and have been subject to a background check and/or have a security clearance.

Retention and disposal:

Records are retained and disposed of in accordance with the appropriate National Archives and Records Administration General Records Schedules.

System Manager(s) and Address:

Department of the Treasury: Official prescribing policies and practices: Director, Office of Security, Department of the Treasury, Washington, DC 20220.

The system managers for the Treasury components are:

1.(a) DO: Director of Security, 1500 Pennsylvania Avenue, NW., Washington, DC 20220.

(b) FinCEN: Security Director, 2070 Chain Bridge Road Vienna, VA 22182.

(c) OIG: Personnel Officer, 740 15th St., NW, Suite 510 Washington, DC 20220.

(d) TIGTA: Security Officer, 1111 Constitution Ave., NW, Washington, DC 20224.

2. ATF: Deputy Assistant Director (Management), 650 Massachusetts Avenue, NW., Washington, DC 20226.

3. CC: Director, Administrative Services Division, 250 E Street, SW, Washington, DC 20219.

4. USCS: Chief, Security Management Branch, 1300 Pennsylvania Avenue, NW, Washington, DC 20229.

5. BEP: Director of Security, 14th & C Streets, NW, Room 113M Washington, DC 20228.

6. FLETC: Director, Glynco Facility, Glynco, GA 31524.

7. FMS: Director, Administrative Programs Division, 3700 East West Highway, Hyattsville, MD 20782.

8. IRS: Director, Security Standards and Evaluation, 5000 Ellin Road, Lanham, MD 20706.

9. BPD: Director, Administration, 200 Third Street, P.O. Box 1328, Parkersburg, WV 261061328.

10. Mint: Director of Security, 801 9th Street, NW, Washington, DC 20220.

11. USSS: Deputy Assistant Director, Office of Administration 950 H Street NW, Washington, DC 20001.

12. OTS: Director, Procurement and Administrative Services 1700 G Street, NW, Washington, DC 20552.

Notification Procedure:

Individuals seeking notification and access to any record contained in the system of records, or seeking to contest its content, may inquire in accordance with instructions pertaining to individual Treasury components appearing at 31 CFR part 1, subpart C, appendices A-L.

Record Access Procedures:

See “Notification Procedures” above.

Contesting Record Procedures:

See “Notification Procedures” above.

Record Source Categories:

Information is obtained from current Treasury employees, contractors, Treasury Emergency Executive Reservists, and Management.

Exemptions Claimed for the System:

None.

[FR Doc. 01-2996 Filed 2-5-01; 8:45am]

BILLING CODE 4810-25-P